COMMITTEE FOR THE IMPLEMENTATION OF TEXTILE AGREEMENTS

Adjustment of Import Limits for Certain Cotton, Wool, Man-Made Fiber, Silk Blend and Other Vegetable Fiber Textiles and Textile Products Produced or Manufactured in the Republic of Korea

October 11, 2000.

AGENCY: Committee for the Implementation of Textile Agreements (CITA).

ACTION: Issuing a directive to the Commissioner of Customs adjusting limits.

EFFECTIVE DATE: October 17, 2000.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted, variously, for swing, carryover, carryforward, carryforward used and special shift.

A description of the textile and apparel categories in terms of HTS numbers is available in the CORRELATION: Textile and Apparel Categories with the Harmonized Tariff Schedule of the United States (see Federal Register notice 64 FR 71982, published on December 22, 1999). Also see 64 FR 68334, published on December 7, 1999.

Richard B. Steinkamp,
Acting Chairman, Committee for the Implementation of Textile Agreements.

Committee for the Implementation of Textile Agreements

October 11, 2000.

Commissioner of Customs,

Department of the Treasury, Washington, DC 20229.

Dear Commissioner: This directive amends, but does not cancel, the directive issued to you on December 1, 1999, by the Chairman, Committee for the Implementation of Textile Agreements. That directive concerns imports of certain cotton, wool, man-made fiber, silk blend and other vegetable fiber textiles and textile products, produced or manufactured in Korea and exported during the period which began on January 1, 2000 and extends through December 31, 2000.

Effective on October 17, 2000, you are directed to adjust the limits for the following categories, as provided for under the Uruguay Round Agreement on Textiles and Clothing:

Category | Adjusted limit ¹
Group I |
200-223, 224-V ², 224-O ³, 225-227, 300-326, 360-363, 369pt. ⁴, 400-414, 464, 469pt. ⁵, 600-629, 666, 669-P ⁶, 669pt. ⁷ and 670-O ⁸, as a group | 420,482,425 square meters equivalent.
Group II |
237, 239pt. ⁹, 331-348, 350-352, 359-H ¹⁰, 359pt. ¹¹, 431, 433-438, 440-448, 459-W ¹², 459pt. ¹³, 631, 633-652, 659-H ¹⁴, 659-S ¹⁵ and 659pt. ¹⁶, as a group | 600,653,070 square meters equivalent.
Sublevels within Group II |
333/334/335 | 325,193 dozen of which not more than 166,211 dozen shall be in Category 335.
336 | 68,922 dozen.
338/339 | 1,430,197 dozen.
340 | 798,508 dozen of which not more than 422,170 dozen shall be in Category 340-D ¹⁷.
341 | 189,050 dozen.
342/642 | 263,796 dozen.
345 | 141,709 dozen.
347/348 | 575,581 dozen.
350 | 20,172 dozen.
351/651 | 277,125 dozen.
352 | 215,097 dozen.
433 | 15,127 dozen.
434 | 7,759 dozen.
435 | 39,522 dozen.
436 | 16,729 dozen.
438 | 65,847 dozen.
442 | 56,539 dozen.
443 | 344,600 numbers.
444 | 60,480 numbers.
445/446 | 56,751 dozen.
447 | 95,012 dozen.
448 | 39,776 dozen.
459-W | 107,596 kilograms.
631 | 364,124 dozen pairs.
633/634/635 | 1,425,286 dozen of which not more than 161,624 dozen shall be in Category 633 and not more than 602,324 dozen shall be in Category 635.
636 | 309,393 dozen.
638/639 | 5,456,769 dozen.
640-D ¹⁸ | 3,002,692 dozen.
640-O ¹⁹ | 2,837,492 dozen.
641 | 1,164,074 dozen of which not more than 49,403 dozen shall be in Category 641-Y ²⁰.
647/648 | 1,421,191 dozen.
650 | 29,520 dozen.
659-H | 1,497,317 kilograms.
659-S | 217,092 kilograms.
Group III |
831, 833-838, 840-844, 847-858 and 859pt. ²¹, as a group | 17,653,944 square meters equivalent.
Sublevel within Group III |
835 | 31,846 dozen.
Group VI |
369-L/670-L/870 ²², as a group | 70,506,099 square meters equivalent.
¹ The limits have not been adjusted to account for any imports exported after December 31, 1999.
² Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36,0020.
³ Category 224-O: all remaining HTS numbers in Category 224.
⁴ Category 369pt.: all HTS numbers except 4202.12.4000, 4202.12.8020, 4202.12.8060, 4202.92.1500, 4202.92.3016, 4202.92.6091, 6307.90.9905, (Category 369-L); 5601.10.1000, 5601.21.0090, 5701.90.1020, 5701.90.2020, 5702.10.9020, 5702.39.2010, 5702.49.1020, 5702.49.1080, 5702.59.1000, 5702.99.1010, 5702.99.1090, 5705.00.2020 and 6406.10.7700.
⁵ Category 469pt.: all HTS numbers except 5601.29.0020, 5603.94.1010 and 6406.10.9020.
⁶ Category 669-P: only HTS numbers 6305.32.0010, 6305.32.0020, 6305.33.0010, 6305.33.0020 and 6305.39.0000.
⁷ Category 669pt.: all HTS numbers except 6305.32.0010, 6305.32.0020, 6305.33.0010, 6305.33.0020, 6305.39.0000 (Category 669-P); 5601.10.2000, 5601.22.0090, 5607.49.3000, 5607.50.4000 and 6406.10.9040.
⁸ Category 670-O: All HTS numbers except only HTS numbers 4202.12.8030, 4202.12.8070, 4202.92.3020, 4202.92.3031, 4202.92.9026 and 6307.90.9907 (Category 670-L).
⁹ Category 239pt.: only HTS number 6209.20.5040 (diapers).
¹⁰ Category 359-H: only HTS numbers 6505.90.1540 and 6505.90.2060.
¹¹ Category 359pt.: all HTS numbers except 6505.90.1540, 6505.20.2060 (Category 359-H); and 6406.99.1550.
¹² Category 459-W: only HTS number 6505.90.4090.
¹³ Category 459pt.: all HTS numbers except 6505.90.4090 (Category 459-W); 6405.20.6030, 6405.20.6060, 6405.20.6090, 6406.99.1505 and 6406.99.1560.
¹⁴ Category 659-H: only HTS numbers 6502.00.9030, 6504.00.9015, 6504.00.9060, 6505.90.5090, 6505.90.6090, 6505.90.7090 and 6505.90.8090.
¹⁵ Category 659-S: only HTS numbers 6112.31.0010, 6112.31.0020, 6112.41.0010, 6112.41.0020, 6112.41.0030, 6112.41.0040, 6211.11.1010, 6211.11.1020, 6211.12.1010 and 6211.12.1020.
¹⁶ Category 659pt.: all HTS numbers except 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010, 6211.12.1020 (Category 659-S); 6406.99.1510 and 6406.99.1540.
¹⁷ Category 340-D: only HTS numbers 6205.20.2015, 6205.20.2020, 6205.20.2025 and 6205.20.2030.
¹⁸ Category 640-D: only HTS numbers 6205.30.2010, 6205.30.2020, 6205.30.2030, 6205.30.2040, 6205.90.3030 and 6205.90.4030.
¹⁹ Category 640-O: only HTS numbers 6203.23.0080, 6203.29.2050, 6205.30.1000, 6205.30.2050, 6205.30.2060, 6205.30.2070, 6205.30.2080 and 6211.33.0040.
²⁰ Category 641-Y: only HTS numbers 6204.23.0050, 6204.29.2030, 6206.40.3010 and 6206.40.3025.
²¹ Category 859pt.: only HTS numbers 6115.19.8040, 6117.10.6020, 6212.10.5030, 6212.10.9040, 6212.20.0030, 6212.30.0030, 6212.90.0090, 6214.10.2000 and 6214.90.0090.
²² Category 870; Category 369-L: only HTS numbers 4202.12.4000, 4202.12.8020, 4202.12.8060, 4202.92.1500, 4202.92.3016, 4202.92.6091 and 6307.90.9905; Category 670-L: only HTS numbers 4202.12.8030, 4202.12.8070, 4202.92.3020, 4202.92.3031, 4202.92.9026 and 6307.90.9907.

The Committee for the Implementation of Textile Agreements has determined that these actions fall within the foreign affairs exception of the rulemaking provisions of 5 U.S.C. 553(a)(1).

Sincerely,

Richard B. Steinkamp,
Acting Chairman, Committee for the Implementation of Textile Agreements.

[FR Doc. 00-26609 Filed 10-16-00; 8:45 am]

BILLING CODE 3510-DR-F